DEPARTMENT OF COMMERCE

International Trade Administration

A-570-863

Honey from the People's Republic of China: Extension of Time Limit for Preliminary Results of 2004/2005 New Shipper Review

AGENCY: Import Administration, International Trade Administration, Department of Commerce.

EFFECTIVE DATE: March 9, 2006.

FOR FURTHER INFORMATION CONTACT: Kristina Boughton or Bobby Wong; AD/CVD Operations, Office 9, Import Administration, International Trade Administration, U.S. Department of Commerce, 14th Street and Constitution Avenue, NW., Washington, DC 20230; telephone: (202) 482-8173 or (202) 482-04709, respectively.

SUPPLEMENTARY INFORMATION:

Background

On December 10, 2001, the Department of Commerce (“the Department”) published in the Federal Register an antidumping duty order covering honey from the People's Republic of China (“PRC”). Notice of Amended Final Determination of Sales at Less Than Fair Value and Antidumping Duty Order; Honey from the People's Republic of China, 66 FR 63670 (December 10, 2001). The Department received timely requests from Shanghai Taiside Trading Co., Ltd. (“Taiside”) and Wuhan Shino-Food Trade Co., Ltd. (“Shino-Food”), in accordance with 19 CFR 351.214(c), for a new shipper review of the antidumping duty order on honey from the PRC, which has a December annual anniversary month and a June semi-annual anniversary month. On August 5, 2005, the Department initiated a review with respect to Taiside and Shino-Food. Honey from the People's Republic of China: Initiation of New Shipper Antidumping Duty Review, 70 FR 45367 (August 5, 2005).

On January 13, 2006, the Department extended the deadline for the preliminary results to March 31, 2006. Honey from the People's Republic of China: Extension of Time Limit for Preliminary Results of 2004/2005 New Shipper Review, 71 FR 2182 (January 13, 2006).

Extension of Time Limits for Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated. See Section 751(a)(2)(B)(iv) of the ACT, and 19 CFR 351.214(i)(2).

Pursuant to section 751(a)(2)(B)(iv) of the Act and 19 CFR 351.214(i)(2), the Department has determined that due to the extraordinarily complicated nature of this review, the Department requires additional time to analyze the supplemental questionnaire responses, issue additional questionnaires, and conduct verification of the responses. Accordingly, the Department is extending the time limit for the completion of the preliminary results until May 22, 2006, in accordance with section 751(a)(2)(B)(iv) of the Act and 19 CFR 351.214(i)(2). The final results, in turn, will be due 90 days after the date of issuance of the preliminary results, unless extended.

We are issuing and publishing this notice in accordance with sections 751(a)(1) and 777(i)(1) of the Act.

Dated: March 1, 2006.
Stephen J. Claeys,
Deputy Assistant Secretary for Import Administration.

[FR Doc. E6-3368 Filed 3-8-06; 8:45 am]

BILLING CODE 3510-DS-S